DEPARTMENT OF COMMERCE

International Trade Administration

Cancellation of Meeting of the United States Investment Advisory Council

AGENCY: International Trade Administration, U.S. Department of Commerce.

ACTION: Notice of cancellation of meeting.

SUMMARY: This notice cancels the meeting of the United States Investment Advisory Council previously scheduled for Friday, February 17, 2017 from 2:30 p.m.-3:30 p.m. EST. The Federal Register Notice announcing this meeting was published on January 27, 2017 (Document Number 2017-01837).

ADDRESSES: United States Investment Advisory Council, U.S. Department of Commerce, Room 3855, 1401 Constitution Avenue NW., Washington, DC 20230, IAC@trade.gov.

FOR FURTHER INFORMATION CONTACT: Danielle Fumagalli, United States Investment Advisory Council, Room 3855, 1401 Constitution Avenue NW., Washington, DC 20230, telephone: 202-482-2486, email: IAC@trade.gov.

SUPPLEMENTARY INFORMATION:

Background: The Council advises the Secretary of Commerce on matters relating to the promotion and retention of foreign direct investment in the United States.

Dated: January 31, 2017.
Danielle Fumagalli,
Executive Secretary, United States Investment Advisory Council.

[FR Doc. 2017-02393 Filed 2-3-17; 8:45 am]

BILLING CODE 3510-DR-P